DEPARTMENT OF ENERGY

Federal Energy Regulatory Commission

[Docket No. EL01-89-000]

Morgan Stanley Capital Group Inc., Complainant, v. California Independent System Operator Corporation, Respondent; Notice of Complaint

June 15, 2001.

Take notice that on June 14, 2001, Morgan Stanley Capital Group Inc. (MSCG), tendered for filing a complaint pursuant to section 206 of the Federal Power Act against the California Independent System Operator (CAISO) concerning the ongoing problem of phantom congestion. Given the ongoing harm that MSCG faces and the immediacy of the peak summer months, MSCG requests interim relief.

Copies of the filing were served upon CAISO and other interested parties.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before July 5, 2001. Protests will be considered by the Commission to determine the appropriate action to be taken, but will not serve to make protestants parties to the proceedings. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before July 5, 2001. Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15693 Filed 6-21-01; 8:45 am]

BILLING CODE 6717-01-M